DEPARTMENT OF COMMERCE

Bureau of Economic Analysis

Federal Economic Statistics Advisory Committee Meeting

AGENCY: Bureau of Economic Analysis, U.S. Department of Commerce.

ACTION: Notice of public meeting.

SUMMARY: The Bureau of Economic Analysis (BEA) is giving notice of a meeting of the Federal Economic Statistics Advisory Committee (FESAC). The Committee advises the Under Secretary for Economic Affairs, the Directors of the Bureau of Economic Analysis and the Census Bureau, and the Commissioner of the U.S. Department of Labor's Bureau of Labor Statistics (BLS) on statistical methodology and other technical matters related to the collection, tabulation, and analysis of federal economic statistics. Email Gianna Marrone, gianna.marrone@bea.gov, by June 5, 2020, to attend. An agenda will be accessible prior to the meeting at https://apps.bea.gov/fesac/.

DATES: June 12, 2020. The meeting begins at approximately 9:30 a.m. and adjourns at approximately 2:15 p.m.

ADDRESSES: The safety and well-being of the public, committee members, and our staff is our top priority. In light of the travel restrictions and social-distancing requirements resulting from the COVID-19 outbreak, this meeting will be held virtually.

FOR FURTHER INFORMATION CONTACT: Gianna Marrone, Program Analyst, U.S. Department of Commerce, Bureau of Economic Analysis, 4600 Silver Hill Road (BE-64), Suitland, MD 20746; phone (301) 278-9282; email gianna.marrone@bea.gov.

SUPPLEMENTARY INFORMATION: FESAC members are appointed by the Secretary of Commerce. The Committee advises the Under Secretary for Economic Affairs, BEA and Census Bureau Directors, and the Commissioner of the Department of Labor's BLS on statistical methodology and other technical matters related to the collection, tabulation, and analysis of federal economic statistics. The Committee is established in accordance with the Federal Advisory Committee Act (5 U.S.C. App. section 2).

This meeting is open to the public. Anyone planning to attend the meeting must contact Gianna Marrone at BEA (301) 278-9282 or gianna.marrone@bea.gov. The call in number, access code, and presentation link will be posted 24 hours prior to the meeting on https://apps.bea.gov/fesac/. The meeting is accessible to people with disabilities. Requests for foreign language interpretation or other auxiliary aids should be directed to Gianna Marrone at gianna.marrone@bea.gov by June 5, 2020.

Persons with extensive questions or statements must submit them in writing by June 5, 2020, to Gianna Marrone, gianna.marrone@bea.gov.

This meeting is accessible to people with disabilities. Requests for sign language interpretation or other auxiliary aids should be directed to Gianna Marrone, gianna.marrone@bea.gov, preferably two weeks prior to the meeting.

Dated: May 21, 2020.
Kyle Hood,
Designated Federal Officer, Bureau of Economic Analysis.

[FR Doc. 2020-11396 Filed 5-27-20; 8:45 am]

BILLING CODE 3510-06-P